DEPARTMENT OF HOMELAND SECURITY

Coast Guard

[Docket No. USCG-2015-0753]

Recreational Boating Accident Reporting Manual, COMDTINST M16782.1

AGENCY: Coast Guard, DHS.

ACTION: Notice; request for comments.

SUMMARY: The Coast Guard has developed a draft Recreational Boating Accident Reporting Manual, COMDTINST M16782.1, to replace Standard Method of Reporting (Boating Accidents), CG-449, which was last published in September 1973. We seek public comment on this draft.

DATES: Comments must be received by the Coast Guard on or before November 19, 2015.

ADDRESSES: You may submit comments using one of the listed methods, and see SUPPLEMENTARY INFORMATION for more information on public comments.

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

FOR FURTHER INFORMATION CONTACT: For information about this document call or email Susan Weber; 202-372-1103, susan.m.weber@uscg.mil. For information about viewing or submitting material to the docket, call Cheryl Collins, Program Manager, Docket Operations, telephone 202-366-9826.

SUPPLEMENTARY INFORMATION:

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2015-0753] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2015-0753) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

Discussion

The Coast Guard's National Recreational Boating Safety Program aims to reduce accidents, injuries and deaths on America's waterways and to facilitate safe enjoyable boating. It promotes greater uniformity among States and localities in boating safety laws, enforcement, and administration. The Program also requires boating safety reporting by States and boaters involved in accidents. This notice announces the availability of a new draft accident reporting manual and seeks comment on its content.

The manual addresses the following broad topics:

• Regulations, vessel determinations, accident scenarios policy, and definitions of terms.

• Report form and reporting system.

• Expected roles of the Coast Guard and State.

• Investigation and data entry expectations.

Comments can discuss any aspects or other concerns about the Manual. Submissions will be reviewed internally to determine whether amendments need to be made to the Manual.

This notice is issued under the authority of 46 U.S.C. 6102 and 5 U.S.C. 552(a).

Dated: August 17, 2015.
Verne B. Gifford,
Captain, U.S. Coast Guard, Director of Inspections and Compliance.

[FR Doc. 2015-20738 Filed 8-20-15; 8:45 am]

BILLING CODE 9110-04-P